DEPARTMENT OF LABOR

Employment and Training Administration

[TA-W-61,522]

Unifi, Inc.—Dillon Plant Formerly Known as Dillon Yarn, Dillon, SC; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification Regarding Eligibility to Apply for Worker Adjustment Assistance and Alternative Trade Adjustment Assistance on August 15, 2007, applicable to workers of Unifi, Inc.,—Dillon Plant, Dillon, South Carolina. The notice will be published soon in the Federal Register.

At the request of the State agency, the Department reviewed the certification for workers of the subject firm. The workers are engaged in the production of textured polyester yarns and twisted sewing threads.

The subject firm originally named Dillon Yarn, was renamed Unifi, Inc.—Dillon Plant on January 1, 2007. The State agency reports that some workers wages at the subject firm are being reported under the Unemployment Insurance (UI) tax account for Dillon Yarn, Dillon, South Carolina.

Accordingly, the Department is amending this certification to properly reflect this matter.

The intent of the Department's certification is to include all workers of Unifi, Inc.—Dillon Plant, formerly known as Dillon Yarn, who were adversely affected by increased customer imports.

The amended notice applicable to TA-W-61,522 is hereby issued as follows:

All workers of Unifi, Inc.—Dillon Plant, formerly known as Dillon Yarn, Dillon, South Carolina, who became totally or partially separated from employment on or after May 10, 2006, through August 15, 2009, are eligible to apply for adjustment assistance under Section 223 of the Trade Act of 1974, and are also eligible to apply for alternative trade adjustment assistance under section 246 of the Trade Act of 1974.

Signed at Washington, DC, this 28th day of August 2007.
Linda G. Poole,
Certifying Officer, Division of Trade Adjustment Assistance.

[FR Doc. E7-17475 Filed 9-4-07; 8:45 am]

BILLING CODE 4510-FN-P